Title 3—

The President

Proclamation 10909 of April 1, 2025

World Autism Awareness Day, 2025

By the President of the United States of America

A Proclamation

On World Autism Awareness Day, we recognize the millions of Americans living with autism spectrum disorder (ASD). Their proud perseverance in overcoming tremendous hurdles is emblematic of the strength and grit that makes America great. The First Lady and I extend our heartfelt appreciation to the families, friends, and communities aiding Americans with ASD as we empower every citizen to take part in and shape our new golden age.

Autism now affects 1 in 36 children in the United States, a staggering increase from the 1980s, when the disorder was found in only 1 to 4 out of every 10,000 individuals. I created the Make America Healthy Again Commission to investigate and address the root causes of our escalating health crisis, with a focus on childhood disorders like autism. As part of this effort, my Administration is prioritizing gold-standard research and increasing transparency to gain new insights to aid those with ASD.

Under my leadership, our great Nation will be stronger than ever before, with opportunities for all Americans to thrive and prosper. Despite challenges, Americans with ASD have made, and will continue to make outstanding contributions for our country and the world.

Early detection is crucial to improving the quality of life of those with ASD, as timely intervention can significantly improve long-term outcomes. Identifying signs of autism at the onset allows parents and healthcare providers to implement therapies and support strategies which can enhance communication and social skills. Loving parents want the best for their children in educational environments and so do we. By supporting our children and their families, we can help them in overcoming challenges during childhood, the most crucial stage of development.

Together, on World Autism Awareness Day, we declare our unending support and wholehearted respect for Americans living with autism. My Administration will empower them to reach their full potential and realize their American Dream.

NOW, THEREFORE, I, DONALD J. TRUMP, President of the United States of America, by virtue of the authority vested in me by the Constitution and the laws of the United States, do hereby proclaim April 2, 2025, as World Autism Awareness Day. I call upon all Americans to learn more about the signs of autism to improve early diagnosis, understand the challenges faced by individuals with autism, and find ways to support those with autism and their families.

IN WITNESS WHEREOF, I have hereunto set my hand this first day of April, in the year of our Lord two thousand twenty-five, and of the Independence of the United States of America the two hundred and forty-ninth.

[FR Doc. 2025-06026

Filed 4-4-25; 8:45 am]

Billing code 3395-F4-P